DEPARTMENT OF COMMERCE

Submission for OMB Review; Comment Request

DOC has submitted to the Office of Management and Budget (OMB) for clearance the following proposal for collection of information under the provisions of the Paperwork Reduction Act (44 U.S.C. chapter 35).

AGENCY: U.S. Census Bureau.

Title: Census 2000 Count Question Resolution Program.

Form Number(s): None.

Agency Approval Number: None.

Type of Request: New collection.

Burden: 15,600 hours.

Number of Respondents: 3,000.

Avg Hours Per Response: 5.2 hours.

Needs and Uses: After the release of Census 2000 redistricting data, some governmental entities may seek to challenge these official Census 2000 counts. The Census Bureau is implementing the Census 2000 Count Question Resolution program (CQR) to address boundary, geocoding, and coverage (processing errors that result in a failure to include or the incorrect inclusion of population data that was identified and collected during the 2000 Census) errors. The census officially ended on December 31, 2000, and no additional census data can or will be collected after that date. The CQR Program is not a mechanism or process to challenge the March 6, 2001, decision of the Secretary of Commerce to release unadjusted numbers from Census 2000 for redistricting purposes nor to revise the numbers that were released for redistricting. Neither is the program a mechanism or process to challenge or revise the numbers sent to the President on December 28, 2000, used to apportion the United States House of Representatives.

Local or tribal governmental entities submitting a challenge using the CQR Program must submit supporting documentation, such as address lists and/or maps. Supporting evidence in the form of address lists shall be taken from a source dated no later than April 1, 2000. Challenges alleging geocoding or coverage (processing) errors in housing unit counts or group quarters population counts, must specify the block(s) for which the counts are being challenged. All governmental unit boundary challenges must be based on the boundaries that were in effect on January 1, 2000. The Census Bureau will compare the maps and supporting documentation with the information used to depict the boundaries for Census 2000. The Census Bureau will respond to all challenges and/or questions and will notify all affected governmental entities of any corrections to their official counts.

The Census Bureau published a notice in the Federal Register on January 22, 2001 (Vol. 66, No. 14, pp. 6574-6578) announcing our plans to conduct the CQR Program and instructing local and Tribal governments on how, when, and where to submit challenges.

CQR will begin June 30, 2001 and will conclude September 30, 2003.

Affected Public: State, local, or Tribal government.

Frequency: One time.

Respondent's Obligation: Voluntary.

Legal Authority: Title 13 U.S.C., Section 141.

OMB Desk Officer: Susan Schechter, (202) 395-5103.

Copies of the above information collection proposal can be obtained by calling or writing Madeleine Clayton, Departmental Paperwork Clearance Officer, (202) 482-3129, Department of Commerce, room 6086, 14th and Constitution Avenue, NW., Washington, DC 20230 (or via the Internet at mclayton@doc.gov).

Written comments and recommendations for the proposed information collection should be sent within 30 days of publication of this notice to Susan Schechter, OMB Desk Officer, room 10201, New Executive Office Building, Washington, DC 20503.

Dated: April 6, 2001.
Madeleine Clayton,
Departmental Paperwork Clearance Officer, Office of the Chief Information Officer.

[FR Doc. 01-10765 Filed 4-30-01; 8:45 am]

BILLING CODE 3510-07-P